ENVIRONMENTAL PROTECTION AGENCY

[ER-FRL-6692-7]

Environmental Impacts Statements; Notice of Availability

Responsible Agency: Office of Federal Activities, General Information (202) 564-7167 or http://www.epa.gov/compliance/nepa/

Weekly receipt of Environmental Impact Statements

Filed 10/29/2007 Through 11/02/2007

Pursuant to 40 CFR 1506.9.

EIS No. 20070464, Final EIS, FHW, VA, Harrisonburg Southeast Connector Location Study, Transportation Improvements from U.S. Route 11 to U.S. Route 33, Funding and US Army COE Section 404 Permit, City of Harrisonburg, Rockingham County, VA, Wait Period Ends: 12/10/2007, Contact: John Simkins 804-775-3342.

EIS No. 20070465, Final EIS, FRA, CA, Los Angeles to San Diego (LOSSAN) Rail Corridor, Proposed Rail Corridor Improvement Studies, Increase of Intercity Travel for Faster, Safer, and Reliable Passenger Rail System, Los Angeles, Orange and San Diego Counties, CA, Wait Period Ends: 12/10/2007, Contact: Richard Dial 202-493-6368.

EIS No. 20070466, Final EIS, FHW, WI, TIER 1-FEIS—United States Highway 8 Project, Construction from Wis 35 (N) to USH 53, Selected the Preferred Segment Alternative, Funding and Right-of-Way Permit, Polk and Barron Counties, WI, Wait Period Ends: 12/10/2007, Contact: Peter M. Garcia 608-829-7513.

EIS No. 20070467, Final EIS, BLM, NM, Special Status Species Resource Management Plan Amendment, Managing Public Land and Federal Minerals in Portions of Chaves, Eddy, Lea and Roosevelt Counties, NM, Wait Period Ends: 12/10/2007, Contact: Howard Parman 505-627-0212.

EIS No. 20070468, Final Supplement, SFW, CA, Coachella Valley, Revision to the Multiple Species Habitat Conservation Plan (MSHCP), Natural Community Conservation Plan, Santa Rosa and San Jacinto Mountains Trails Plan, Issuance of Incidental Take Permit, Riverside County, CA, Wait Period Ends: 12/10/2007, Contact: Therese O'Rourke 760-431-9440.

EIS No. 20070469, Draft EIS, NOA, 00, Snapper Grouper Amendment 15B, Fishery Management Plan, To Analyze the Effects of Updating Management Reference Points for Golden Tilefish (Lopholatilus chamaeleonticeps); Snowy Grouper (Epinephelus niveatus) and Red Porgy (Pagrus pagrus), NC, SC, FL and GA, Comment Period Ends: 01/11/2008, Contact: Dr. Roy E. Crabtree 727-824-5301 .

EIS No. 20070470, Draft Supplement, AFS, ID, North Sheep Allotments—Sheep and Goat Allotment Management Plans, Additional Information on Analyses Concerning Management Indicator Species, Capable and Suitable Grazing Lands, and Adaptive Management Strategies, Authorization of Continued Sheep Grazing for Fisher Creek, Smiley Creek, North Fork-Boulder and Baker Creek Sheep and Goat Grazing Allotments, Sawtooth National Forest, Ketchum Ranger District, Sawtooth National Recreation Area, Blaine and Custer Counties, ID, Comment Period Ends: 12/24/2007, Contact: Carol Brown 208-727-5000 .

EIS No. 20070471, Draft EIS, DOE, MN, Mesaba Energy Project, Proposes to Design, Construct and Operate a Coal-Based Integrated Gasification Cycle(IGCC) Electric Power Generating Facility, Located in the Taconite Tax Relief Area (TTRA), Itasca and St. Louis Counties, MN, Comment Period Ends: 01/11/2008, Contact: Richard A. Hargis 412-386-4604.

EIS No. 20070472, Final EIS, DOE, WV, Western Greenbrier Co-Production Demonstration Project, Construction and Demonstration of a 98 megawatt (MWe) Net Power Plant and Ash Byproduct Manufacturing Facility, Rainelle, WV, Wait Period Ends: 12/10/2007, Contact: Roy Spears 304-285-5460.

EIS No. 20070473, Draft EIS, FHW, MT, US-212 Reconstruction Project, from Rockvale to Laurel, Proposes to Improve Safety for Local and Regional Traffic Area, Yellowstone and Carbon Counties, MT, Comment Period Ends: 12/26/2007, Contact: Theordore G. Burch 406-449-5302.

EIS No. 20070474, Final EIS, COE, TN, Center Hill Dam and Lake Project, Changes to Operational Guide Curves Pool Elevations, Chancey Fork River and Cumberland River, Dekalb County, TN, Wait Period Ends: 12/10/2007, Contact: Joy Broach 615-736-7956.

EIS No. 20070475, Final EIS, FHW, KS, ADOPTION—Kansas Highway10 (commonly known as South Lawrence Trafficway) Relocation, Issuance or Denial of Section 404 Permit Request, Lawrence City, Douglas County, KS, Wait Period Ends: 12/10/2007, Contact: John Knowles 785-228-2544 Ext 211 Department of Transportation's, Federal Highway Administration, has adopted the Corp of Engineers's , FEIS #20030010, filed 01/07/2003. FHW was not a Cooperating Agency on the above FEIS. Under Section 1506.3(b) of the CEQ Regulations, the FEIS must be Recirculated for a 30-day Wait Period.

EIS No. 20070476, Draft EIS, FRC, 00, Gulf Crossing Project, Construction and Operation of Natural Gas Pipeline to Facilitate the Transport of up to 1.73 Billion Cubic Feet Per Day of Natural Gas, Located in various Counties and Parishes in OK, TX, LA and MS, Comment Period Ends: 12/24/2007, Contact: Andy Black 1-866-208-3372.

EIS No. 20070477, Final EIS, MMS, 00, PROGRAMMATIC—Alternative Energy Development and Production and Alternate Use of Facilities on the Outer Continental Shelf, Implementation, Atlantic, Gulf of Mexico, Pacific and Alaska, Wait Period Ends: 12/10/2007, Contact: Mary Boatman 703-787-1662.

EIS No. 20070478, Final EIS, AFS, AK, Helicopter Access to Conduct Forest Inventory and Analysis (FIA) in Wilderness, Implementation, Selected Preferred Alternative, 1 Tongass and Chugach National Forest, AK, Wait Period Ends: 12/10/2007, Contact: Ken Post 907-586-8796.

EIS No. 20070479, Final EIS, GSA, DC, Armed Forces Retirement Home (AFRH-W), Proposed Master Plan for Campus Located 3700 North Capitol Street, NW., AFRH Trust Fund, Washington, DC, Wait Period Ends: 12/10/2007, Contact: Joe Woo 202-730-3445.

Amended Notices

EIS No. 20070344, Draft EIS, FHW, VT,Circ-Williston Transportation Project, Improvements between I-89 and the Towns Williston and Essex and the Village of Essex Junction, City of Burlington, Chittenden County, VT, Comment Period Ends: 11/21/2007, Contact: Kenneth R. Sikora, Jr. 802-828-4424 . Revision of FR Published 08/10/2007: Extending Comment Period from 11/08/2007 to 11/21/2007.

EIS No. 20070388, Draft EIS, FHW, MI, Blue Water Bridge Plaza Study and Improve to the I-94/1-69 Corridor, To Provide Safe, Efficient and Secure Movement of People and Goods across the Canadian—U.S. Border, Port Huron Area, St. Clair County, MI, Comment Period Ends: 12/10/2007, Contact: Ryan Rizzo 517-702-1833 . Revision to FR Published 09/21/2007: Extending Comment Period from 11/05/2007 to 12/10/2007.

EIS No. 20070422, Draft EIS, FHW, TN, US 127/ TN 28 Improvements, from 1-40 at Crossville to TN 62 at Clarkrange, Funding, U.S. Army COE Section 10 and 404 Permits, Cumberland and Fentress Counties, TN, Comment Period Ends: 12/11/2007, Contact: Leigh Ann Tribble 615-781-5760 . Revision of FR Published 10/12/2007: Correction to Comment Period from 11/26/2007 to 12/11/2007.

EIS No. 20070441, Draft Supplement, IBR, CA, Environmental Water Account (EWA) Project, Updated Information to Provide an Evaluation of 2004 Final EIS/EIR Environmental Water Account (EWA) and Effects Associated with Extending the Current EWA's through 2011, CA, Comment Period Ends: 12/10/2007, Contact: Ms. Sammie Cervantes 916-978-5189. Revision of FR Published 10/26/2007: Correction to Title and Contact Telephone Number.

EIS No. 20070449, Final EIS, BLM, ID, Smoky Canyon Mine Panels F & G, Proposed Mine Expansion, Caribou County, ID, Wait Period Ends: 12/26/2007, Contact: Bill Stout 208-478-6367. Revision of FR Published 10/26/2007: Extending Comment Period from 11/26/2007 to 12/26/2007.

Dated: November 6, 2007.
Robert W. Hargrove,
Director, NEPA Compliance Division, Office of Federal Activities.

[FR Doc. E7-22038 Filed 11-8-07; 8:45 am]

BILLING CODE 6560-50-P